DEPARTMENT OF HEALTH AND HUMAN SERVICES

National Biodefense Science Board; Notification of a Public Teleconference

AGENCY: Department of Health and Human Services, Office of the Secretary.

ACTION: Notice.

SUMMARY: As stipulated by the Federal Advisory Committee Act, the U.S. Department of Health and Human Services is hereby giving notice that the National Biodefense Science Board (NBSB) will be holding a public teleconference. The meeting is open to the public.

DATES: The NBSB will hold a public teleconference on August 11, 2008. The teleconference will be held from 2 p.m. to 3 p.m. EDT. Public Conference Call-In Number is 1-888-566-5790 and the Public Password is “Monday”. Participants will be asked to provide their name, title, and organization.

ADDRESSES: The conference will be conducted by phone.

FOR FURTHER INFORMATION CONTACT: Any member of the public wishing to obtain general information concerning this public teleconference should contact CAPT Leigh A. Sawyer, D.V.M., M.P.H., Executive Director, National Biodefense Science Board, Office of the Assistant Secretary for Preparedness and Response, U.S. Department of Health and Human Services, 200 Independence Ave., SW., Room 638G, Washington, DC 20201; via telephone/voice mail: 202-205-3815; fax: 202-690-7412; or e-mail at: leigh.sawyer@hhs.gov.

SUPPLEMENTARY INFORMATION: Pursuant to section 319M of the Public Health Service Act (42 U.S.C. 247d-7f) and section 222 of the Public Health Service Act (42 U.S.C. 217a), the Department of Health and Human Services established the National Biodefense Science Board. The Board shall provide expert advice and guidance to the Secretary on scientific, technical, and other matters of special interest to the Department of Health and Human Services regarding current and future chemical, biological, nuclear, and radiological agents, whether naturally occurring, accidental, or deliberate. The Board may also provide advice and guidance to the Secretary on other matters related to public health emergency preparedness and response.

Background: The purpose of the August 11, 2008 teleconference is to disclose recent activities of the Board and to ensure that the public is given an opportunity to be involved in the deliberative process of the Board on personal preparedness issues that will specifically impact the Nation. The U.S. Department of Health and Human Services is preparing to release information that will have impact on all U.S. citizens. The information involves the homestockpiling of antibiotics prescribed by a physician for use following an exposure to anthrax. Therefore, a special meeting of the Board is being convened to assure that the public is given the opportunity to provide comments to the Department prior to the information being released for wide-spread dissemination. There will be time for members of the public to present their comments to the Board on this subject matter. As a result of the impending release of information concerning personal preparedness, there are exceptional circumstances that prevent the normal 15 calendar days notice for this meeting. This is a special meeting of the Board. The next scheduled meeting of the Board will be announced in the Federal Register within the required time-frame established by the Federal Advisory Committee Act.

Availability of Materials: The agenda and other materials will be posted on the NBSB Web site at http://www.hhs.gov/aspr/omsph/nbsb/index.html prior to the meeting.

Procedures for Providing Public Input: Interested members of the public may submit relevant written or oral information for the NBSB to consider.

Oral Statements: In general, individuals or groups requesting an oral presentation at a public NBSB teleconference will be limited to three minutes per speaker, with no more than a total of 20 minutes for all speakers. To be placed on the public speaker list, you should notify the operator when you enter the call-in number.

Dated: August 8, 2008.
William C. Vanderwagen,
Assistant Secretary for Preparedness and Response, U.S. Department of Health and Human Services.

[FR Doc. E8-18762 Filed 8-8-08; 3:45 pm]

BILLING CODE 4150-37-P